DEPARTMENT OF HEALTH AND HUMAN SERVICES

Centers for Disease Control and Prevention

[30Day-20-1128]

Agency Forms Undergoing Paperwork Reduction Act Review

In accordance with the Paperwork Reduction Act of 1995, the Centers for Disease Control and Prevention (CDC) has submitted the information collection request titled “State Unintentional Drug Overdose Reporting System (SUDORS)” to the Office of Management and Budget (OMB) for review and approval. CDC previously published a “Proposed Data Collection Submitted for Public Comment and Recommendations” notice on April 2, 2019 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

State Unintentional Drug Overdose Reporting System (SUDORS) (OMB Control No. 0920-1128, Exp. 10/31/2020)—Revision—National Center for Injury Prevention and Control (NCIPC), Centers for Disease Control and Prevention (CDC).

Background and Brief Description

There has been a rapid increase in opioid overdose deaths since 2013. In the United States, more people are now dying of drug overdose than automobile crashes, although opioids—both opioid pain relievers (OPRs) and illicit forms such as heroin—are also a major factor in overdose-related automobile crashes. On October 26, 2017, the U.S. Department of Health and Human Services (HHS) declared the opioid overdose epidemic to be a national public health emergency.

CDC established the State Unintentional Drug Overdose Reporting System (SUDORS) in order to detect new trends in fatal unintentional drug overdoses, support targeting of drug overdose prevention efforts, and assess the progress of the HHS initiative to reduce opioid misuse and overdoses. Respondents are state- or jurisdiction-level health departments. The SUDORS surveillance system generates detailed, timely public health information on unintentional, fatal opioid-related drug overdoses and has been used to inform prevention and response efforts at the national, state, and local levels. SUDORS consolidates and supplements information available to health departments, including vital statistics and records created by medical examiners and coroners (ME/C). SUDORS is built on a web-based software platform and a collaborative surveillance and data integration model developed by CDC and health departments to improve understanding of homicide, suicide, undetermined deaths, and unintentional firearm deaths (National Violent Death Reporting System (NVDRS), OMB No. 0920-0607, exp. 11/30/2020).

Through SUDORS, CDC currently collects information that is not provided on death certificates, such as whether the drug(s) causing the overdoses were injected or taken orally; a toxicology report on the decedent, if available; and risk factors for fatal drug overdoses including previous drug overdoses, decedent's mental health, and whether the decedent recently exited a treatment program. Without this information, efforts to prevent drug overdose deaths are often based on limited information available on the death certificate and anecdotal evidence.

During the next three years, CDC will update the web-based SUDORS interface to improve system performance, functionality, and accessibility. CDC and health departments will also expand the SUDORS case definition beyond the current focus on opioid-related overdose deaths to include all individuals who died of an unintentional or undetermined intent drug-related overdose. The expanded focus will allow CDC and health departments to begin characterizing overdose deaths attributable to emerging illicit drug threats (e.g., non-opioid synthetic drugs), deaths attributable to opioid co-use with other classes of drugs (e.g., gabapentin or benzodiazapine), and the extent to which certain types of prescription drugs (both opioid and non-opioid) are involved in fatal overdoses.

Participating states and jurisdictions will continue to report SUDORS information to CDC through a module in the NVDRS web-based platform. State- and jurisdiction-level public health departments will be funded to abstract standardized data elements from ME/C reports as well as death certificates. Beginning in 2020, cooperative agreement goals include reducing the time lag for reporting from eight months to no more than six months. Information can be entered into the SUDORS system at any time, but reports on overdose deaths that occur between January 1 and June 30 will be entered into the SUDORS by December of the same calendar year. Data entry for overdose deaths that occur between July 1 and December 31 will be complete by June of the next calendar year. The accelerated reporting schedule is needed to support timely identification of the causes of overdose deaths, and effective public health intervention.

This Revision request does not entail a change in the estimated burden per response, which is based on the time needed for a health department to retrieve and refile vital statistics records, ME/C records, etc. The estimated burden per response does not include the time needed to abstract SUDORS data variables from those sources, since this activity is funded by the SUDORS cooperative agreement. Total estimated annualized burden will increase due to the inclusion of additional types of overdose-related deaths. Also, increased Congressional appropriation in 2019 to expand SUDORS nationwide as a component of CDC's Overdose Data to Action (OD2A) Notice of Funding Opportunity (NOFO) (CDC-RFA-CE19-1904, posted February 1, 2019) requires expanding the number of participating jurisdictions from 50 to 52. OMB approval is requested for three years. The total estimated annualized burden hours are 32,838.

Estimated Annualized Burden Hours
Type of respondent | Form name | Number of respondents | Total number of responses per respondent | Average burden per response (in hours)
Public Agencies | Retrieving and refiling records | 52 | 1,263 | 30/60

Jeffrey M. Zirger,
Lead, Information Collection Review Office, Office of Scientific Integrity, Office of Science, Centers for Disease Control and Prevention.

[FR Doc. 2019-23367 Filed 10-24-19; 8:45 am]

BILLING CODE 4163-19-P